DEPARTMENT OF TRANSPORTATION

Federal Transit Administration

Federal Highway Administration

Supplemental Environmental Impact Statement for the South Corridor Segement of the South/North Transit Corridor Project in the Portland, Oregon Metropolitan Area

AGENCY: Federal Transit Administration, DOT and Federal Highway Administration, DOT.

ACTION: Notice of intent to prepare a supplemental environmental impact statement.

SUMMARY: The Federal Transit Administration, the Federal Highway Administration, Metro and Tri-Met intend to prepare a Supplemental Environmental Impact Statement (SEIS) in accordance with the National Environmental Policy Act (NEPA) for transit improvements in the southern segment of the South/North Transit Corridor (referred to as the South Corridor Project) of the Portland Oregon metropolitan region. Conditions have changed since the South/North DEIS was published. The Corridor has been divided into minimum operable segments. The North Corridor Interstate MAX FEIS was published and the project is under construction. The South Corridor Transportation Alternatives Study was performed to re-examine transportation options in the South Corridor.

The purpose of this new Notice of Intent is to re-notify interested parties of the intent to prepare a SEIS and invite participation in the study. Over time, traffic congestion in the South Corridor has degraded transit reliability and increased transit travel time. The project proposes to implement a major high capacity transit improvement in the South Corridor segment of the South/North Corridor, that maintains livability in the metropolitan region, supports land use goals, optimizes the transportation system, is environmentally sensitive, reflects community values and is fiscally responsive. Six transit alternatives (described below) will be evaluated in the SDEIS.

MEETING DATES: Agency Coordination Meeting: An agency coordination meeting will be held at 10 a.m. on Wednesday, March 13, 2002, at the Metro Regional Center, 600 NE Grand Avenue, Portland Oregon.

Public Information Meeting: A public information meeting will be held from 4 to 7 p.m. on Wednesday, March 20, 2002 at the Metro Regional Center, 600 NE Grand Avenue, Portland Oregon. The Metro Regional Center is accessible to persons with disabilities. Any individual with a disability who requires special assistance, such as a sign language interpreter, should contact Kirstin Hull at (503) 797-1864, at least 48-hours in advance of the meeting in order for Metro to make necessary arrangements.

FOR FURTHER INFORMATION CONTACT: Agency Coordination contact Sharon Kelly, Metro EIS Manager at (503) 797-1753 or (e-mail) KellyS@Metro.dst.or.us. Public Information contact Kristin Hull, Metro Public Involvement Coordinator at (503) 797-1864 or (e-mail) Hull@Metro.dst.or.us. Written Comments should be sent to Sharon Kelly, South Corridor Project, Metro, 600 NE Grand Avenue, Portland OR 97232. Additional information on the South Corridor Project can also be found on the Metro Web site at: www.metro-region.org.

SUPPLEMENTARY INFORMATION:

1. Notice of Intent

This new Notice of Intent to prepare a Supplemental EIS is being published at this time to re-notice interested parties due to the changes that have occurred since the initial Notice of Intent (October 1993), publication of the South/North DEIS (February 1998), and publication of the North Corridor Interstate MAX Light Rail Project FEIS (October 1999). The South Corridor Project is re-examining high capacity transit alternatives in the southern segment of the South/North Corridor. Also, the Federal Highway Administration (FHWA) is joining the Federal Transit Administration (FTA) as a Federal Co-Lead. Because the study is primarily a transit alternatives study, FTA regulations and guidance will be used for the analysis and preparation of the South Corridor Project SEIS.

II. Study Area

The South Corridor generally encompasses the southeast quadrant of the Portland, Oregon metropolitan area, including downtown Portland, Southeast Portland neighborhoods, the City of Milwaukie, the City of Gladstone, the City of Oregon City and urban unincorporated Clackamas County (east of the Willamette River).

III. Alternatives

Six alternatives will be evaluated in the SDEIS. The No-Build Alternative will provide the basis for comparison of the build alternatives. The No-Build Alternative includes the existing transportation system plus multi-modal transportation improvements that would be constructed under the Regional Transportation Plan Financially Constrained Transportation Network. The Bus Rapid Transit (BRT) Alternative provides low cost capital and operating improvements to the existing bus transit system. The BRT Alternative includes bus priority treatments on existing streets, intelligent transportation system (ITS) treatments, simplified fare payment methods, fewer stops and other amenities that would enhance bus service. The Busway Alternative includes elements of a separated busway in combination with BRT elements connecting the Transit Mall in downtown Portland with downtown Milwaukie and the Clackamas Town Center area. The Milwaukie Light Rail Alternative includes 6.3 miles of new light rail transit connecting to the existing light rail system in downtown Portland and extending to downtown Milwaukie. Some BRT improvements would also be included in this alternative. The I-205 Light Rail Alternative includes 6.5 miles of new light rail transit connecting to the existing light rail system at Gateway and extending south along I-205 to the Clackamas Town Center area. Some BRT improvements would also be included in this alternative. The Combined Light Rail Alternative includes both Milwaukie Light Rail and I-205 Light Rail along with some BRT components.

IV. Probable Effects

FTA, FHWA, Metro and Tri-Met will evaluate all significant transportation, environmental, social and economic impacts of the alternatives. Primary issues include: support of state, regional and local land use and transportation plans and policies, cost effective expansion of the transit system, preservation of capacity enhancement options of I-205, neighborhood impacts and environmental sensitivity. The impacts will be evaluated for both the construction period adn for the long-term period of operation. Measures to mitigate any significant impact will be developed.

Issued on: February 25, 2002.
Linda Gehrke,
Deputy Regional Admininstrator, Region, X, Federal Transit Administration.
Elton H. Change,
Environmental Coordinator, Oregon Division, Federal Highway Administration.

[FR Doc. 02-4849 Filed 2-27-02; 8:45 am]

BILLING CODE 4910-57-M